DEPARTMENT OF THE INTERIOR

National Park Service

[NPS-WASO-NRNHL-12128; 2200-3200-665]

National Register of Historic Places; Notification of Pending Nominations and Related Actions

Nominations for the following properties being considered for listing or related actions in the National Register were received by the National Park Service before January 12, 2013. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by February 25, 2013. Before including your address, phone number, email address, or other personal identifying information in your comment, you should be aware that your entire comment—including your personal identifying information—may be made publicly available at any time. While you can ask us in your comment to withhold your personal identifying information from public review, we cannot guarantee that we will be able to do so.

Dated: January 16, 2013.
J. Paul Loether,
Chief, National Register of Historic Places/National Historic Landmarks Program.

FLORIDA

Pinellas County

Rothman, Maurice and Thelma, House, 1018 Park St., N., Saint Petersburg, 13000034

IOWA

Winneshiek County

Fort Atkinson Historic District, (Ho-Chunk (Winnebago) Removal to the Neutral Ground MPS), 2nd St. & 8th Ave., Fort Atkinson, 13000036

MASSACHUSETTS

Barnstable County

Bourne High School, 85 Cotuit Rd., Bourne, 13000035

Bournedale Village School, 29 Herring Pond Rd., Bourne, 13000037

MISSOURI

Jackson County

Southwest Market Street Historic District, (Lee's Summit, Missouri MPS), 314 through 418 SW. Market St., Lee's Summit, 13000038

NEW YORK

New York County

Murray Hill Historic District (Boundary Increase), (Murray Hill, New York County, New York MPS), E. 34th, 35th, 36th, 37th, 38th & 39th Sts., Lexington, Madison & Park Aves., Manhattan, 13000039

Women's National Republican Club, 3 W. 51st. St., Manhattan, 13000040

Orleans County

Bacon—Harding Farm, (Cobblestone Architecture of New York State MPS), 3077 Oak Orchard Rd., Gaines, 13000041

SOUTH DAKOTA

Davison County

Mitchell Historic Commercial District (Boundary Increase and Decrease), Roughly bounded by Lawler & Rowley Sts., Railroad & 6th Aves., Mitchell, 13000042

TEXAS

Galveston County

Stringfellow Orchards, 7902 TX 6, Hitchcock, 13000043

VIRGINIA

Alexandria Independent City

Alexandria Union Station, 110 Callahan Dr., Alexandria (Independent City), 13000044

Charlottesville Independent City

Charlottesville Coca-Cola Bottling Works, 722 Preston, Charlottesville (Independent City), 13000045

Prince Edward County

First Baptist Church, 100 S. Main St., Farmville, 13000046

WYOMING

Platte County

Grant, Duncan, Ranch Rural Historic Landscape, (Ranches, Farms, and Homesteads in Wyoming, 1860-1960 MPS), 778 Sybille Creek Rd., Wheatland, 13000047

[FR Doc. 2013-02910 Filed 2-7-13; 8:45 am]

BILLING CODE 4312-51-P